DEPARTMENT OF HEALTH AND HUMAN SERVICES

National Institutes of Health

Submission for OMB Review; Comment Request: NEXT Generation Health Study; Correction Notice

Summary: Under the provisions of Section 3507(a)(1)(D) of the Paperwork Reduction Act of 1995, the National Institute of Child Health and Human Development (NICHD), the National Institutes of Health (NIH) has submitted to the Office of Management and Budget (OMB) a request for review and approval of the information collection listed below. This proposed information collection was previously published in the Federal Register on February 23, 2012 (Volume 77, Number 36) and allowed 60-days for public comment. No comments were received. The purpose of this notice is to allow an additional 30 days for public comment, to correct the omission of the peers survey in the previous notice, and to correct the errant data that appeared in Table 1 and Table 2 of the notice. The data in Table 1 and Table 2 of this notice are correct. The National Institutes of Health may not conduct or sponsor, and the respondent is not required to respond to, an information collection that has been extended, revised, or implemented on or after October 1, 1995, unless it displays a currently valid OMB control number.

Proposed Collection

Title: NEXT Generation Health Study.

Type of Information Collection Request: New.

Need and Use of Information Collection:

The goal of this research is to continue to obtain data on adolescent health and health behaviors annually for seven years beginning in the 2009-2010 school year from a national probability sample of adolescents. The transition from high school to post high school years is a critical period for changes in adolescent health risk behaviors. This information will enable the improvement of health services and programs for youth. The study will provide needed information about the health of U.S. adolescents and influences on their health.

The study has collected information on adolescent health behaviors and social and environmental contexts for these behaviors annually for three years beginning in the 2009-2010 school year. This study will continue to collect this information for an additional four years beginning in 2013. The health behaviors of participants' friends will also be surveyed at two points in time: when participants are 19 years old and again when they are 21. Self-report of health status, health behaviors, and health attitudes will be collected by online surveys.

Table 1—Annual Burden for Affected Public: Young Adults
Type of respondents | Estimated number of respondents | Estimated number of responses per respondent | Average burden hours per response | Estimated total annual burden hours requested
Young Adults in NEXT Cohort | 2,100 | 1 | 1.0 | 2,100
Peers Recruited by NEXT Plus Young Adults | 2,535 | 1 | .67 | 1,698

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to minimize the burden of the collection of information on those who are to respond, including the use of appropriate automated, electronic, mechanical, or other technological collection techniques or other forms of information technology.

For Further Information

Written comments and/or suggestions regarding the item(s) contained in this notice, especially regarding the estimated public burden and associated response time, should be directed to the: OIRA_submission@omb.eop.gov or by fax to 202-395-6974. To request more information on the proposed project or to obtain a copy of the data collection plans and instruments, contact Dr. Ronald Iannotti, Prevention Research Branch, Division of Epidemiology, Statistics, and Prevention Research, Eunice Kennedy Shriver National Institute of Child Health and Human Development, Building 6100, 7B05, 9000 Rockville Pike, Bethesda, Maryland 20892-7510, or call non-toll free number 301-435-6951 or Email your request, including your address to ri25j@nih.gov.

Comments Due Date

Comments regarding this information collection are best assured of having their full effect if received within 30 days of the date of this publication.

Dated: November 5, 2012.
Jamelle E. Banks,
Project Clearance Liaison, NICHD, National Institutes of Health.

[FR Doc. 2012-27577 Filed 11-13-12; 8:45 am]

BILLING CODE 4140-01-P